DEPARTMENT OF EDUCATION

Notice of Proposed Information Collection Requests

AGENCY: Department of Education.

ACTION: Comment Request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before January 3, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: October 29, 2010.
Darrin A. King,
Director, Information Collection Clearance Division, Regulatory Information Management Services, Office of Management.

Office of Planning, Evaluation and Policy Development

Type of Review: New.

Title of Collection: Equitable Distribution of Effective Teachers: State and Local Responses to Federal Initiatives.

OMB Control Number: 1875-NEW.

Agency Form Number(s): N/A.

Frequency of Responses: Once.

Affected Public: State, Local, or Tribal Government, State Educational Agencies or Local Educational Agencies.

Total Estimated Number of Annual Responses: 42.

Total Estimated Number of Annual Burden Hours: 126.

Abstract: The most recent reauthorization of the Elementary and Secondary Education Act in 2002 required that States provide assurances and develop plans to “ensure that poor and minority children are not taught at higher rates than other children by inexperienced, unqualified, or out of field teachers” (Section 1111(b)(8)(C)). In 2009, American Recovery and Reinvestment Act (ARRA) requirements reinforced the focus on equitable distribution of teachers by requiring States applying for education stimulus funds to provide updated assurances and to publicize their most recent “equity plans.” ARRA also establishes competitive grants to help States build their pool of effective teachers and address inequities in the distribution of teachers. In addition to their focus on the equitable distribution of teacher quality, Federal programs also have been promoting shifts in how teacher quality is measured, away from teacher qualifications and toward measures of instructional practice and effectiveness at raising student achievement. Federal programs such as the Teacher Incentive Fund and Race to the Top have provided incentives for States and districts to move in this direction, including funds to support some of the technical aspects of development.

Federal policymakers need to know whether the policies and programs they sponsor under these laws contribute to teacher quality for disadvantaged students. Hence, the U.S. Department of Education requires a study documenting the State and local actions to (a) develop new measures of teacher quality, (b) analyze the distribution of teacher quality, and (c) develop and implement plans to ensure teacher quality for disadvantaged students. To inform Federal policymakers, the study will examine the implementation of these activities with attention to implementation challenges, the role of State and local context, and the roles of the Federal programs designed to foster these activities.

The planned data collection will serve four objectives:

1. To examine how States and districts analyze the distribution of teacher quality, plan actions to address inequities, and monitor progress.

2. To examine how States and districts are changing their measures of teacher quality, and to understand their experiences in doing so.

3. To examine State and local actions to improve teacher quality for disadvantaged students (i.e., students in high-poverty or high-minority schools).

4. To describe the perceived contributions of Federal programs to State and local actions aimed at improving the quality of teachers for disadvantaged students, and how State and local contexts mediate these contributions.

To address these objectives, our design includes telephone interviews with State education agencies and local education agencies.

Requests for copies of the proposed information collection request may be accessed from http://edicsweb.ed.gov, by selecting the “Browse Pending Collections” link and by clicking on link number 4426. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2010-27898 Filed 11-3-10; 8:45 am]

BILLING CODE 4000-01-P